DEPARTMENT OF HEALTH AND HUMAN SERVICES

Health Resources and Services Administration

National Advisory Council on Nurse Education and Practice

AGENCY: Health Resources and Services Administration (HRSA), Department of Health and Human Services (HHS).

ACTION: Notice of Federal Advisory Committee meeting.

SUMMARY: In accordance with the Federal Advisory Committee Act, this notice announces that the National Advisory Council on Nurse Education and Practice (NACNEP) will hold a public meeting.

DATES: Wednesday, May 16, 2018, from 11:00 a.m. to 4:00 p.m. ET.

ADDRESSES: This meeting is a teleconference and webinar. The conference call-in number is 1-800-619-2521 and the passcode is 9271697. The webinar link is https://hrsa.connectsolutions.com/nacnep/.

FOR FURTHER INFORMATION CONTACT: Anyone requesting information regarding the NACNEP meeting should contact CDR Antoine Smith, Designated Federal Official (DFO), Bureau of Health Workforce (BHW), HRSA, in one of three ways: (1) Send a request to the following address: CDR Antoine Smith, DFO, BHW, HRSA, 5600 Fishers Lane, Room 11N120, Rockville, Maryland 20857; (2) call 301-443-3726; or (3) send an email to asmith@hrsa.gov.

SUPPLEMENTARY INFORMATION: NACNEP provides advice and recommendations to the Secretary of HHS and the U.S. Congress on policy issues related to the activities under section 851 of Title VIII of the Public Health Service Act (PHSA). The Secretary of HHS, and by delegation the Administrator of HRSA, is charged under Title VIII of the PHSA as amended, with responsibility for a wide range of activities in support of nursing education and practice which include: enhancement of the composition of the nursing workforce; improvement of the distribution and utilization of nurses to meet the health needs of the nation; expansion of the knowledge, skills, and capabilities of nurses to enhance the quality of nursing practice; development and dissemination of improved models of organization; financing and delivery of nursing services; and promotion of interdisciplinary approaches to the delivery of health services particularly in the context of public health and primary care.

During the May 16, 2018, meeting, NACNEP members will be oriented to the work of the Council and identify a topic for 2018. The NACNEP final agenda will be available on the NACNEP website three (3) days prior to the meeting at https://www.hrsa.gov/advisory-committees/nursing/index.html. Please note that agenda items are subject to change as priorities dictate.

Members of the public will have the opportunity to provide comments, which are part of the official Committee record. Oral comments will be honored in the order they are requested and may be limited as time allows. Requests to make oral comments or provide written comments to the NACNEP should be sent to CDR Antoine Smith, DFO, using the contact information above, at least three (3) business days prior to the meeting.

Amy P. McNulty,
Acting Director, Division of the Executive Secretariat.

[FR Doc. 2018-08263 Filed 4-19-18; 8:45 am]

BILLING CODE 4165-15-P